DEPARTMENT OF TRANSPORTATION

Federal Aviation Administration

14 CFR Part 39

[Docket No. FAA-2017-0556; Directorate Identifier 2016-NM-098-AD]

RIN 2120-AA64

Airworthiness Directives; Airbus Airplanes

AGENCY: Federal Aviation Administration (FAA), DOT.

ACTION: Notice of proposed rulemaking (NPRM).

SUMMARY: We propose to supersede Airworthiness Directive (AD) 2012-23-10, which applies to all Airbus Model A318 series airplanes; Model A319 series airplanes; Model A320-211, -212, -214, -231, -232, and -233 airplanes; and Model A321-111, -112, -131, -211, -212, -213, -231, and -232 airplanes. AD 2012-23-10 requires modifying the affected slide rafts. Since we issued AD 2012-23-10, we received a report that Air Cruisers developed a modification of the slide and slide/raft, which is part of the escape slide pack assembly, to improve its deployment. This proposed AD would retain the requirements of AD 2012-23-10. This proposed AD would also require replacing each escape slide pack assembly having a certain part number with a new escape slide pack assembly. We are proposing this AD to address the unsafe condition on these products.

DATES: We must receive comments on this proposed AD by August 7, 2017.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

Hand Delivery: U.S. Department of Transportation, Docket Operations, M-30, West Building Ground Floor, Room W12-140, 1200 New Jersey Avenue SE., Washington, DC, between 9 a.m. and 5 p.m., Monday through Friday, except Federal holidays.

For Airbus service information identified in this NPRM, contact Airbus, Airworthiness Office—EIAS, 1 Rond Point Maurice Bellonte, 31707 Blagnac Cedex, France; telephone +33 5 61 93 36 96; fax +33 5 61 93 44 51; email account.airworth-eas@airbus.com; Internet http://www.airbus.com. For Zodiac Aerospace service information identified in this NPRM, contact Air Cruisers, Cage Code 70167, 1747 State Route 34, Wall Township, NJ 07727-3935; telephone: (732) 681-3527; Internet: http://www. zodiacaerospace.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2017-0556; or in person at the Docket Management Facility between 9 a.m. and 5 p.m., Monday through Friday, except Federal holidays. The AD docket contains this proposed AD, the regulatory evaluation, any comments received, and other information. The street address for the Docket Operations office (telephone 800-647-5527) is in the ADDRESSES section. Comments will be available in the AD docket shortly after receipt.

FOR FURTHER INFORMATION CONTACT: Sanjay Ralhan, Aerospace Engineer, International Branch, ANM-116, Transport Airplane Directorate, FAA, 1601 Lind Avenue SW., Renton, WA 98057-3356; telephone 425-227-1405; fax 425-227-1149.

SUPPLEMENTARY INFORMATION:

Comments Invited

We invite you to send any written relevant data, views, or arguments about this proposed AD. Send your comments to an address listed under the ADDRESSES section. Include “Docket No. FAA-2017-0556; Directorate Identifier 2016-NM-098-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On November 13, 2012, we issued AD 2012-23-10, Amendment 39-17266 (77 FR 70369, November 26, 2012) (“AD 2012-23-10”). AD 2012-23-10 requires actions intended to correct an unsafe condition for all Airbus Model A318, A319, A320, and A321 series airplanes.

Since we issued AD 2012-23-10, we have determined that it may no longer address the unsafe condition, and that it is necessary to replace each escape slide pack assembly having a certain part number with a new escape slide pack assembly having a certain part number, or modify the escape slide pack.

The European Aviation Safety Agency (EASA), which is the Technical Agent for the Member States of the European Union, has issued EASA AD 2016-0043, dated March 4, 2016 (referred to after this as the Mandatory Continuing Airworthiness Information, or “the MCAI”), to correct an unsafe condition for all Airbus Model A318, A319, A320, and A321 series airplanes. The MCAI states:

Two occurrences were reported on Airbus A320 family aeroplanes where the escape slide raft inflation system did not deploy when activated. This was due to the rotation of the cable guide in a direction, which resulted in jamming of the inflation control cable. Additionally, one case was reported where the system did not deploy properly due to a cracked inflation hose fitting. Investigation conducted by Air Cruisers Company [Zodiac Aero Evacuation Systems], the slide raft manufacturer, showed that the hose fitting could be subject to a bending moment, if improperly packed. Consequently, the hose fitting could separate from the reservoir and the inflation of the slide raft would be impaired.

This condition, if not corrected, could delay the evacuation from the aeroplane in case of emergency, possibly resulting in injury to the occupants.

To address this potential unsafe condition, DGAC France issued AD F-2004-072 [which correlates with FAA AD 2004-26-07, Amendment 39-13919 (70 FR 1176, January 6, 2005)], to introduce an inflation hose retainer preventing an incomplete inflation of emergency escape slides, which could delay passenger evacuation, and EASA issued AD 2011-0160 (later revised twice) to require modification of the affected slide rafts or replacement thereof with modified units.

Since EASA AD 2011-0160R2 [which correlates with FAA AD 2012-23-10 and issued as a stand-alone, non-superseding AD] was issued, Air Cruisers [Zodiac Aero Evacuation Systems] developed a modification of the slide and slide/raft, part of the escape slide pack assemblies, to improve its deployment. Modified slides and slide/rafts are identified by a different Part Number (P/N); consequently, also the escape slide pack assemblies are identified by a different P/N.

For the reasons described above, this [EASA] AD retains the requirements of DGAC France AD F-2004-072 (EASA approval 2004-5335) and EASA AD 2011-0160R2, which are superseded, and requires installation of modified escape slide pack assemblies.

Appendix 1 of this [EASA] AD provides a comprehensive list of escape slide pack assemblies P/N that, at the issue date of the [EASA] AD, are not approved for further installation on any aeroplane.

You may examine the MCAI in the AD docket on the Internet at http://www.regulations.gov by searching for and locating Docket No. FAA-2017-0556.

Related Service Information Under 1 CFR Part 51

Airbus has issued the following service information, which describes procedures for replacing certain escape slide pack assemblies. These documents are distinct since they apply to different airplane models in different configurations.

• Service Bulletin A320-25-1B81, Revision 01, dated December 10, 2015.

• Service Bulletin A320-25-1B82, Revision 01, dated December 10, 2015.

• Service Bulletin A320-25-1B83, Revision 01, dated December 10, 2015.

• Service Bulletin A320-25-1B84, Revision 01, dated December 10, 2015.

Zodiac Aerospace has issued Zodiac Aero Evacuation Systems Service Bulletin S.B. A320 004-25-96, Revision 1, dated September 18, 2015; and Zodiac Aero Evacuation Systems Service Bulletin S.B. A320 004-25-97, Revision 1, dated September 18, 2015. The service information describes modification of the escape slide pack. These documents are distinct since they apply to different airplane models in different configurations.

This service information is reasonably available because the interested parties have access to it through their normal course of business or by the means identified in the ADDRESSES section.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of these same type designs.

Costs of Compliance

We estimate that this proposed AD affects 959 airplanes of U.S. registry.

The actions required by AD 2012-23-10, and retained in this proposed AD take about 19 work-hours per product, at an average labor rate of $85 per work-hour. Required parts cost about $341 per product. Based on these figures, the estimated cost of the actions that are required by AD 2012-23-10 is $1,956 per product.

We also estimate that it would take about 6 work-hours per product to comply with the basic requirements of this proposed AD. The average labor rate is $85 per work-hour. Required parts would cost about $0 per product. Based on these figures, we estimate the cost of this proposed AD on U.S. operators to be $489,090, or $510 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2012-23-10, Amendment 39-17266 (77 FR 70369, November 26, 2012), and adding the following new AD:

Airbus: Docket No. FAA-2017-0556; Directorate Identifier 2016-NM-098-AD.

(a) Comments Due Date

We must receive comments by August 7, 2017.

(b) Affected ADs

This AD replaces AD 2012-23-10, Amendment 39-17266 (77 FR 70369, November 26, 2012) (“AD 2012-23-10”).

(c) Applicability

This AD applies to all Airbus Model A318-111, -112, -121, and -122 airplanes; Model A319-111, -112, -113, -114, -115, -131, -132, and -133 airplanes; Model A320-211, -212, -214, -231, -232, and -233 airplanes; and Model A321-111, -112, -131, -211, -212, -213, -231, and -232 airplanes; certificated in any category; all manufacturer serial numbers.

(d) Subject

Air Transport Association (ATA) of America Code 25, Equipment/Furnishings.

(e) Reason

This AD was prompted by reports of the escape raft inflation system not deploying when activated due to the rotation of the cable guide in a direction which resulted in jamming of the inflation control cable. We are issuing this AD to prevent non-deployment of the escape slide raft, which could result in delayed evacuation from the airplane during an emergency and consequent injury to the passengers.

(f) Compliance

Comply with this AD within the compliance times specified, unless already done.

(g) Retained: Modification, With No Changes

This paragraph restates the requirements of paragraph (g) of AD 2012-23-10, with no changes. Except as provided by paragraph (i) of this AD, within 36 months after December 31, 2012 (the effective date of AD 2012-23-10): Modify the escape slide rafts that have a part number (P/N) specified in figure 1 to paragraphs (g), (j)(1), and (j)(2) of this AD, in accordance with the Accomplishment Instructions of Airbus Service Bulletin A320-25-1723, dated December 17, 2010 (for Model A319, A320, and A321 series airplanes); or Airbus Service Bulletin A320-25-1724, dated December 17, 2010 (for Model A318 series airplanes).

Figure 1 to Paragraphs (g), (j)(1), and (j)(2) of This AD—Escape Slide Raft
Air Cruisers and Aerazur Escape Slide Rafts part number if fitted with a reservoir and valve assembly P/N D18309-105 or P/N D18309-205
D30664-105
D30664-107
D30664-109
D30664-305
D30664-307
D30664-309
D30664-311
D30665-105
D30665-107
D30665-109
D30665-305
D30665-307
D30665-309
D30665-311

(h) Retained: Replacement in Accordance With Air Cruisers Service Bulletin, With No Changes

This paragraph restates the requirements of paragraph (h) of AD 2012-23-10, with no changes. Replacement of all affected escape slide rafts on any affected airplane with slide rafts that have been modified in accordance with the Accomplishment Instructions of Air Cruisers Service Bulletin S.B.A320 004-25-85, Revision 2, dated January 3, 2012, is acceptable for compliance with the requirements of paragraph (g) of this AD, provided that prior to or concurrently with accomplishing the modification, the installation of the cable guide assembly is done in accordance with the Accomplishment Instructions of Air Cruisers Service Bulletin S.B.A320 004-25-56, dated November 12, 1999.

(i) Retained: Airplanes Not Affected by Paragraph (g) of This AD, With No Changes

This paragraph restates the requirements of paragraph (i) of AD 2012-23-10, with no changes. Before the effective date of this AD: Airplanes on which Airbus Modification 151459 or Modification 151502 has been embodied in production, and on which no escape slide raft replacements have been made since first flight, are not affected by the requirement specified in paragraph (g) of this AD.

(j) Retained: Parts Installation Limitations, With No Changes

This paragraph restates the requirements of paragraph (j) of AD 2012-23-10, with no changes.

(1) For airplanes other than those identified in paragraph (i) of this AD: After accomplishment of the modification required by paragraph (g) of this AD or after accomplishment of the alternative modification specified in paragraph (h) of this AD, no person may install, on any airplane, an escape slide raft specified in figure 1 to paragraphs (g), (j)(1), and (j)(2) of this AD, unless it has been modified in accordance with the Accomplishment Instructions of Airbus Service Bulletin A320-25-1723, dated December 17, 2010 (for Model A319, A320, and A321 series airplanes); Airbus Service Bulletin A320-25-1724, dated December 17, 2010 (for Model A318 series airplanes); or Air Cruisers Service Bulletin S.B.A320 004-25-85, Revision 2, dated January 3, 2012 (for Model A318, A319, A320, and A321 series airplanes), including the installation of the cable guide assembly in accordance with the Accomplishment Instructions of Air Cruisers Service Bulletin S.B.A320 004-25-56, dated November 12, 1999.

(2) For airplanes identified in paragraph (i) of this AD: As of December 31, 2012 (the effective date of AD 2012-23-10), no person may install, on any airplane, an escape slide raft specified in figure 1 to paragraphs (g), (j)(1), and (j)(2) of this AD, unless it has been modified in accordance with the Accomplishment Instructions of Airbus Service Bulletin A320-25-1723, dated December 17, 2010 (for Model A319, A320, and A321 series airplanes); Airbus Service Bulletin A320-25-1724, dated December 17, 2010 (for Model A318 series airplanes); or Air Cruisers Service Bulletin S.B.A320 004-25-85, Revision 2, dated January 3, 2012 (for Model A318, A319, A320, and A321 series airplanes), including the installation of the cable guide assembly in accordance with the Accomplishment Instructions of Air Cruisers Service Bulletin S.B.A320 004-25-56, dated November 12, 1999.

(k) Retained: Credit for Previous Actions, With No Changes

This paragraph restates the requirements of paragraph (k) of AD 2012-23-10, with no changes. This paragraph provides credit for the actions required by paragraphs (h) and (j) of this AD, if those actions were performed before December 31, 2012 (the effective date of AD 2012-23-10), using Air Cruisers Service Bulletin S.B.A320 004-25-85, dated November 30, 2010; or Air Cruisers Service Bulletin S.B.A320 004-25-85, Revision 1, dated September 30, 2011; which are not incorporated by reference in this AD.

(l) New: Replacement

Within 36 months after the effective date of this AD, replace each escape slide pack assembly having a part number identified as “old” in table 1 to paragraphs (l), (m)(2), (n)(2), and (o)(1) of this AD, with a new escape slide pack assembly having the corresponding part number identified as “new” in table 1 to paragraphs (l), (m)(2), (n)(2), and (o)(1) of this AD, using a method approved by the Manager, International Branch, ANM-116, Transport Airplane Directorate, FAA; or the European Aviation Safety Agency (EASA); or Airbus's EASA Design Organization Approval (DOA).

Table 1 to Paragraphs (l), (m)(2), (n)(2), and (o)(1) of This AD—Air Cruisers and Aerazur Escape Slide Pack Assemblies Affected by Paragraph (1) of This AD
Escape slide pack assembly part No.—old | Escape slide pack assembly part No.—new
D30664-405 | D30664-605
D30664-407 | D30664-607
D30664-409 | D30664-609
D30664-505 | D30664-705
D30664-507 | D30664-707
D30664-509 | D30664-709
D30664-511 | D30664-711
D30665-405 | D30665-605
D30665-407 | D30665-607
D30665-409 | D30665-609
D30665-505 | D30665-705
D30665-507 | D30665-707
D30665-509 | D30665-709
D30665-511 | D30665-711
D31516-119 | D31516-619
D31516-121 | D31516-621
D31516-123 | D31516-623
D31516-125 | D31516-625
D31516-315 | D31516-615
D31516-317 | D31516-617
D31516-415 | D31516-715
D31516-417 | D31516-717
D31516-519 | D31516-719
D31516-521 | D31516-721
D31516-523 | D31516-723
D31516-525 | D31516-725
D31517-119 | D31517-619
D31517-121 | D31517-621
D31517-123 | D31517-623
D31517-125 | D31517-625
D31517-315 | D31517-615
D31517-317 | D31517-617
D31517-415 | D31517-715
D31517-417 | D31517-717
D31517-519 | D31517-719
D31517-521 | D31517-721
D31517-523 | D31517-723
D31517-525 | D31517-725

(m) New: Modification

(1) Modification of an airplane in accordance with the Accomplishment Instructions of the applicable service information specified in paragraphs (m)(1)(i) through (m)(1)(iv) of this AD, as applicable to the airplane model and escape slide pack assembly part number, is an acceptable method of compliance with the requirements of paragraph (l) of this AD for that airplane.

(i) Airbus Service Bulletin A320-25-1B81, Revision 01, dated December 10, 2015 (for airplanes equipped with slide/rafts having P/Ns D30664-405, D30664-407, D30664-409, D30664-505, D30664-507, D30664-509, D30664-511 D30665-405, D30665-407, D30665-409, D30665-505, D30665-507, D30665-509, and D30665-511).

(ii) Airbus Service Bulletin A320-25-1B82, Revision 01, dated December 10, 2015 (for airplanes equipped with slide/rafts having P/Ns D31516-121, D31516-125, D31516-317, D31516-417 or D31516-525, D31517-121, D31517-125, D31517-317, D31517-417, and D31517-525).

(iii) Airbus Service Bulletin A320-25-1B83, Revision 01, dated December 10, 2015 (for airplanes equipped with slides with re-entry line P/Ns D31516-119, D31516-123, D31516-519, D31516-523, D31516-315, D31516-415, D31517-119, D31517-123, D31517-519, D31517-523, D31517-315 and D31517-415).

(iv) Airbus Service Bulletin A320-25-1B84, Revision 01, dated December 10, 2015 (for airplanes equipped with slides with Dual Fastener P/N D31516-521 and D31517-521).

(2) An escape slide pack assembly not installed on an airplane and having a part number identified as “old” in table 1 to paragraphs (l), (m)(2), (n)(2), and (o)(1) of this AD can be modified to the corresponding part number identified as “new” in table 1 to paragraphs (l), (m)(2), (n)(2), and (o)(1) of this AD, in accordance with Zodiac Aero Evacuation Systems Service Bulletin S.B. A320 004-25-96, Revision 1, dated September 18, 2015; and Zodiac Aero Evacuations Systems Service Bulletin S.B. A320 04-25-97, Revision 1, dated September 18, 2015; as applicable.

(n) New: Airplanes Not Affected

(1) An airplane on which Airbus Modification 151459 or Modification 151502 has been embodied in production is not affected by the requirements of paragraph (g) of this AD, provided it is determined that no escape slide pack assembly having a part number specified in figure 2 to paragraphs (n) and (o)(2) of this AD, figure 3 to paragraphs (n) and (o)(2) of this AD, and figure 4 to paragraphs (n) and (o)(2) of this AD, is installed on that airplane as of the effective date of this AD.

(2) An airplane on which Airbus Modification 156766, Modification 156767, Modification 156768, Modification 156769, or Modification 156770, has been embodied in production is not affected by the requirements of paragraphs (g) and (l) of this AD, provided that it is determined that no escape slide raft, having a part number identified in figure 2 to paragraphs (n) and (o)(2) of this AD, figure 3 to paragraphs (n) and (o)(2) of this AD, and figure 4 to paragraphs (n) and (o)(2) of this AD, or having a part number identified as “old” in table 1 to paragraphs (l), (m)(2), (n)(2), and (o)(1) of this AD, is installed on that airplane as of the effective date of this AD.

Figure 2 to Paragraphs (n) and (o)(2) of This AD—Air Cruisers and Aerazur Escape Slide Pack Assemblies Affected by Paragraph (1) of This AD
Part No.
D31516-111 | D31517-111
D31516-113 | D31517-113
D31516-115 | D31517-115
D31516-117 | D31517-117
D31516-311 | D31517-311
D31516-313 | D31517-313

Figure 3 to Paragraphs (n) and (o)(2) of This AD—Air Cruisers and Aerazur Escape Slide Pack Assemblies Affected by Paragraphs (g) and (h) of This AD (If Fitted With a Reservoir and Valve Assembly P/N D18309-105 or P/N D18309-205)
Part No.
D30664-105 | D30665-105
D30664-107 | D30665-107
D30664-109 | D30665-109
D30664-305 | D30665-305
D30664-307 | D30665-307
D30664-309 | D30665-309
D30664-311 | D30665-311

Figure 4 to Paragraphs (n) and (o)(2) of This AD—Air Cruisers and Aerazur Escape Slide Pack Assemblies Not Approved for Further Installation on Any Airplane
Part No.
D30664-101 | D30665-101
D30664-103 | D30665-103
D31516-101 | D31517-101
D31516-103 | D31517-103
D31516-105 | D31517-105
D31516-107 | D31517-107
D31516-109 | D31517-109

(o) New: Parts Installation Prohibition

(1) As of the effective date of this AD, do not install on any airplane any escape slide pack assembly having a part number identified as “old” in table 1 to paragraphs (l), (m)(2), (n)(2), and (o)(1) of this AD.

(2) As of the effective date of this AD, do not install on any airplane an escape slide pack assembly having a part number identified in figure 2 to paragraphs (n) and (o)(2) of this AD, figure 3 to paragraphs (n) and (o)(2) of this AD, and figure 4 to paragraphs (n) and (o)(2) of this AD.

(3) Installation of an escape slide pack assembly having a part number approved after March 18, 2016 (the effective date of EASA AD 2016-0043), constitutes compliance with the requirements of paragraph (l) of this AD, provided the conditions as specified in paragraphs (o)(3)(i) and (o)(3)(ii) of this AD are met.

(i) The part number must be approved by the Manager, International Branch, ANM-116, Transport Airplane Directorate, FAA; or the EASA; or Airbus's EASA DOA; and

(ii) The installation must be accomplished in accordance with airplane modification instructions approved by the Manager, International Branch, ANM-116, Transport Airplane Directorate, FAA; or the EASA; or Airbus's EASA DOA.

(p) Credit for Previous Actions

(1) This paragraph provides credit for actions required by paragraph (m)(1) of this AD, if those actions were performed before the effective date of this AD using the applicable service information in paragraphs (p)(1)(i) through (p)(1)(iv) of this AD.

(i) Airbus Service Bulletin A320-25-1B81, dated August 13, 2015.

(ii) Airbus Service Bulletin A320-25-1B82, dated August 13, 2015.

(iii) Airbus Service Bulletin A320-25-1B83, dated July 31, 2015.

(iv) Airbus Service Bulletin A320-25-1B84, dated July 31, 2015.

(2) This paragraph provides credit for actions required by paragraph (m)(2) of this AD, if those actions were performed before the effective date of this AD using Zodiac Aero Evacuation Systems Service Bulletin S.B. A320 004-25-96, dated July 9, 2015; and Zodiac Aero Evacuation Systems Service Bulletin S.B. A320 004-25-97, dated July 9, 2015; as applicable.

(q) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to the attention of the person identified in paragraph (r)(2) of this AD. Information may be emailed to: 9-ANM-116-AMOC-REQUESTS@faa.gov. Before using any approved AMOC, notify your appropriate principal inspector, or lacking a principal inspector, the manager of the local flight standards district office/certificate holding district office.

(2) Contacting the Manufacturer: As of the effective date of this AD, for any requirement in this AD to obtain corrective actions from a manufacturer, the action must be accomplished using a method approved by the Manager, International Branch, ANM-116, Transport Airplane Directorate, FAA; or the EASA; or Airbus's EASA DOA. If approved by the DOA, the approval must include the DOA-authorized signature.

(3) Required for Compliance (RC): If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(r) Related Information

(1) Refer to Mandatory Continuing Airworthiness Information (MCAI) EASA AD 2016-0043, dated March 4, 2016, for related information. This MCAI may be found in the AD docket on the Internet at http://www.regulations.gov by searching for and locating Docket No. FAA-2017-0556.

(2) For more information about this AD, contact: Sanjay Ralhan, Aerospace Engineer, International Branch, ANM-116, Transport Airplane Directorate, FAA, 1601 Lind Avenue SW., Renton, WA 98057-3356; telephone 425-227-1405; fax 425-227-1149.

(3) For Airbus service information identified in this AD, contact Airbus, Airworthiness Office—EIAS, 1 Rond Point Maurice Bellonte, 31707 Blagnac Cedex, France; telephone +33 5 61 93 36 96; fax +33 5 61 93 44 51; email account.airworth-eas@airbus.com; Internet http://www.airbus.com. For Zodiac Aerospace service information identified in this AD, contact Air Cruisers, Cage Code 70167, 1747 State Route 34, Wall Township, NJ 07727-3935; telephone: (732) 681-3527; Internet: http://www.zodiacaerospace.com. You may view this service information at the FAA, Transport Airplane Directorate, 1601 Lind Avenue SW., Renton, WA. For information on the availability of this material at the FAA, call 425-227-1221.

Issued in Renton, Washington, on June 6, 2017.
Michael Kaszycki,
Acting Manager, Transport Airplane Directorate, Aircraft Certification Service.

[FR Doc. 2017-12251 Filed 6-22-17; 8:45 am]

BILLING CODE 4910-13-P